DEPARTMENT OF TRANSPORTATION

Federal Aviation Administration

14 CFR Part 39

[Docket No. FAA-2009-0803; Directorate Identifier 2009-NE-34-AD; Amendment 39-16330; AD 2010-12-09]

RIN 2120-AA64

Airworthiness Directives; Honeywell International Inc. Auxiliary Power Unit Models GTCP36-150(R) and GTCP36-150(RR)

AGENCY: Federal Aviation Administration (FAA), DOT.

ACTION: Final rule.

SUMMARY: The FAA is adopting a new airworthiness directive (AD) for Honeywell International Inc. auxiliary power unit (APU) models GTCP36-150(R) and GTCP36-150(RR). This AD requires inspecting the fuel control unit (FCU) differential pressure (Delta P) sleeve bore for erosion, replacing the FCU if it fails the inspection, and installing a fuel deflector on the Delta P sleeve of the FCU. This AD results from eight reports of fuel leakage from the FCU. We are issuing this AD to prevent fuel leakage in the APU compartment, which could lead to ignition of fuel vapor, creating a fire and explosion hazard resulting in injury, and damage to the APU and the airplane.

DATES: This AD becomes effective July 22, 2010. The Director of the Federal Register approved the incorporation by reference of certain publications listed in the regulations as of July 22, 2010.

ADDRESSES: You can get the service information identified in this AD from Honeywell International Inc., 111 S. 34th Street, Phoenix, Arizona 85034-2802; Web site: http://portal.honeywell.com/wps/portal/aero; telephone No. (800) 601-3099; international telephone No. (601) 365-3099.

The Docket Operations office is located at Docket Management Facility, U.S. Department of Transportation, 1200 New Jersey Avenue, SE., West Building Ground Floor, Room W12-140, Washington, DC 20590-0001.

FOR FURTHER INFORMATION CONTACT: Roger Pesuit, Aerospace Engineer, Los Angeles Aircraft Certification Office, FAA, Transport Airplane Directorate, 3960 Paramount Blvd., Lakewood, CA 90712-4137; e-mail: roger.pesuit@faa.gov; telephone (562) 627-5251, fax (562) 627-5210.

SUPPLEMENTARY INFORMATION: The FAA proposed to amend 14 CFR part 39 with a proposed AD. The proposed AD applies to Honeywell International Inc. APU models GTCP36-150(R) and GTCP36-150(RR). We published the proposed AD in the Federal Register on December 23, 2009 (74 FR 68196). That action proposed to require inspecting the Delta P sleeve bore for erosion, replacing the FCU if it fails the inspection, and installing a fuel deflector on the Delta P sleeve of the FCU.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is provided in the ADDRESSES section. Comments will be available in the AD docket shortly after receipt.

Comments

We provided the public the opportunity to participate in the development of this AD. We received no comments on the proposal or on the determination of the cost to the public.

Conclusion

We have carefully reviewed the available data and determined that air safety and the public interest require adopting the AD as proposed.

Costs of Compliance

We estimate that this AD will affect four APUs installed on airplanes of U.S. registry. We also estimate that it will take about one work-hour per APU to perform the actions, and that the average labor rate is $80 per work-hour. Required parts will cost about $201 per APU. Based on these figures, we estimate the total cost of the AD to U.S. operators to be $1,124.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2010-12-09 Honeywell International Inc. (formerly AlliedSignal Inc., formerly Garrett Auxiliary Power Division): Amendment 39-16330. Docket No. FAA-2009-0803; Directorate Identifier 2009-NE-34-AD.

Effective Date

(a) This airworthiness directive (AD) becomes effective July 22, 2010.

Affected ADs

(b) None.

Applicability

(c) This AD applies to Honeywell International Inc. Auxiliary Power Unit (APU) models GTCP36-150(R) and GTCP36-150(RR). These APUs are installed on, but not limited to, Fokker Services B.V. Model F.28 Mark 0100, and F.28 Mark 0070 airplanes.

Unsafe Condition

(d) This AD results from eight reports of fuel leakage from the fuel control unit (FCU). We are issuing this AD to prevent fuel leakage in the APU compartment, which could lead to ignition of fuel vapor, creating a fire and explosion hazard resulting in injury, and damage to the APU and the airplane.

Compliance

(e) You are responsible for having the actions required by this AD performed at the next shop visit of the APU, or the next shop visit of the APU FCU, or before the APU accumulates an additional 4,000 operating hours, whichever occurs first after the effective date of this AD, unless the actions have already been done.

Inspection of the FCU Differential Pressure (Delta P) Sleeve Bore

(f) Inspect the FCU Delta P sleeve bore for erosion. Use paragraphs 3.B.(1) through 3.B.(4) of Honeywell International Inc. Service Bulletin (SB) No. 3882840-49-7975, Revision 1, dated April 10, 2009, to do the inspection:

(1) If the erosion in the Delta P sleeve bore is 0.030 inch or more in depth, replace the FCU housing.

(2) If the erosion in the Delta P sleeve bore is less than 0.030 inch in depth, the FCU housing is acceptable for use.

Installation of Fuel Deflector

(g) Install fuel deflector, part number 70720001-1, onto the Delta P sleeve of the FCU. Use paragraphs 3.B(5) through 3.B.(9) of Honeywell International Inc. SB No. 3882840-49-7975, Revision 1, dated April 10, 2009, to do the installation.

Alternative Methods of Compliance

(h) The Manager, Los Angeles Aircraft Certification Office, has the authority to approve alternative methods of compliance for this AD if requested using the procedures found in 14 CFR 39.19.

Related Information

(i) Contact Roger Pesuit, Aerospace Engineer, Los Angeles Aircraft Certification Office, FAA, Transport Airplane Directorate, 3960 Paramount Blvd., Lakewood, CA 90712-4137; e-mail: roger.pesuit@faa.gov; telephone (562) 627-5251, fax (562) 627-5210, for more information about this AD.

Material Incorporated by Reference

(j) You must use Honeywell International Inc. SB No. 3882840-49-7975, Revision 1, dated April 10, 2009, to perform the inspection and installation required by this AD. The Director of the Federal Register approved the incorporation by reference of this service bulletin in accordance with 5 U.S.C. 552(a) and 1 CFR part 51. Contact Honeywell International Inc., 111 S. 34th Street, Phoenix, Arizona 85034-2802; Web site: telephone No. (800) 601-3099; international telephone No. (601) 365-3099, for a copy of this service information. You may review copies at the FAA, New England Region, 12 New England Executive Park, Burlington, MA; or at the National Archives and Records Administration (NARA). For information on the availability of this material at NARA, call 202-741-6030, or go to: http://www.archives.gov/federal-register/cfr/ibr-locations.html.

Issued in Burlington, Massachusetts, on May 28, 2010.
Peter A. White,
Assistant Manager, Engine and Propeller Directorate, Aircraft Certification Service.

[FR Doc. 2010-13595 Filed 6-16-10; 8:45 am]

BILLING CODE 4910-13-P